DEPARTMENT OF TRANSPORTATION

Coast Guard

33 CFR Part 167

[USCG-1999-4974]

Port Access Route Study; Strait of Juan de Fuca and Adjacent Waters

AGENCY: Coast Guard, DOT.

ACTION: Notice of preliminary study recommendations with request for comments.

SUMMARY: The Coast Guard announces preliminary study recommendations of a Port Access Route Study which is evaluating the continued applicability of and the need for modifications to the current vessel routing measures in and around the Strait of Juan de Fuca and adjacent waters. The goals of the study are to help reduce the risk of marine casualties and increase vessel traffic management efficiency in the study area. Preliminary recommendations indicate that marine transportation safety can be enhanced through several modifications to the existing vessel routing system and limited regulatory changes. The Coast Guard solicits comments on the preliminary recommendations presented in this document so we can complete our Port Access Route Study.

DATES: Comments and related material must reach the Docket Management Facility on or before April 24, 2000.

ADDRESSES: To make sure your comments and related material are not entered more than once in the docket, please submit them by only one of the following means:

(1) By mail to the Docket Management Facility (USCG-1999-4974), U.S. Department of Transportation, room PL-401, 400 Seventh Street SW., Washington, DC 20590-0001.

(2) By hand delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this document. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Additional information and charts showing the recommended changes will be posted on the Thirteenth Coast Guard District Web Site which can be accessed at http://www.uscg.mil/d13/pars/sjdf.html. If you do not have Web access, then you may obtain the additional information and paper copies of the charts by contacting LT Steve Wheeler at 206-220-7274, e-mail Swheeler@pacnorwest.uscg.mil.

FOR FURTHER INFORMATION CONTACT: For questions on this document, contact John Mikesell, Chief, Plans and Programs Section, Aids to Navigation and Waterways Management Branch, Thirteenth Coast Guard District, telephone 206-220-7272, e-mail Jmikesell@pacnorwest.uscg.mil; or George Detweiler, Office of Vessel Traffic Management, Coast Guard, telephone 202-267-0416, e-mail Gdetweiler@comdt.uscg.mil. For questions on viewing or submitting material to the docket, call Dorothy Walker, Chief, Dockets, Department of Transportation, telephone 202-366-9329.

SUPPLEMENTARY INFORMATION:

Request for Comments

We encourage you to participate in this study by submitting comments and related material. If you do so, please include your name and address, identify the docket number for this notice (USCG-1999-4974), indicate the specific section of this document to which each comment applies, and give the reason for each comment. You may submit your comments and material by mail, hand delivery, fax, or electronic means to the Docket Management Facility at the address under Addresses; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period.

Relationship to Other Projects

This notice of preliminary study recommendations with request for comments is not related to the advance notice of proposed rulemaking entitled “Improvements to Marine Safety in Puget Sound-Area Waters” [USCG-1998-4501](64937, November 24, 1998).

Definitions

The following definitions should help you review this notice:

Area to be avoided (ATBA) means a routing measure comprising an area within defined limits in which either navigation is particularly hazardous or it is exceptionally important to avoid casualties and which should be avoided by all ships, or certain classes of ships.

Precautionary area means a routing measure comprising an area within defined limits where ships must navigate with particular caution and within which the direction of traffic flow may be recommended.

Recommended route means a route of undefined width, for the convenience of ships in transit, which is often marked by centerline buoys.

Regulated Navigation Area (RNA) is a water area within a defined boundary for which regulations for vessels navigating within the area have been established under 33 CFR part 165.

Separation Zone or line means a zone or line separating the traffic lanes in which ships are proceeding in opposite or nearly opposite directions; or from the adjacent sea area; or separating traffic lanes designated for particular classes of ships proceeding in the same direction.

Traffic lane means an area within defined width in which one-way traffic is established. Natural obstacles, including those forming separation zones, may constitute a boundary.

Traffic Separation Scheme (TSS) means a routing measure aimed at the separation of opposing streams of traffic by appropriate means and by the establishment of traffic lanes.

Vessel routing system means any system of one or more routes or routing measures aimed at reducing the risk of casualties; it includes traffic separation schemes, two-way routes, recommended tracks, areas to be avoided, inshore traffic zones, roundabouts, precautionary areas, and deep-water routes.

Background and Purpose

Why Is the Coast Guard Conducting This Port Access Route Study (PARS)?

A PARS was needed to review and analyze existing vessel routing measures and other traffic management tools currently used at the entrance to and in the Strait of Juan de Fuca and adjacent waters including Haro Strait, Boundary Pass, Rosario Strait, and the Strait of Georgia. Study results were to include recommended changes to these existing measures and tools.

The study area encompasses waters managed jointly by the United States and Canadian Coast Guards. Joint waterway management is accomplished primarily through the Cooperative Vessel Traffic System (CVTS). Under the CVTS Agreement, vessel traffic transiting the study area is managed by Vessel Traffic Centers located at Tofino and Victoria, BC, Canada, and Seattle, WA, irrespective of the International Boundary. The CVTS has active radar and radio coverage of all existing TSSs within the study area, including Boundary Pass and Haro Strait.

In addition to the CVTS, there are other vessel routing measures and traffic management tools in place to enhance navigation safety for vessels transiting the study area. They include, but are not limited to: TSSs, pilotage requirements, RNAs, precautionary areas, VTS special areas, the aids to navigation system, International Regulations for Prevention of Collisions at Sea (COLREGS), and an ATBA. The CVTS uses many of these tools to manage traffic effectively and safely.

Preliminary recommendations include modifications to vessel routing measures in and around the Strait of Juan de Fuca and adjacent waters including Haro Strait, Boundary Pass, Rosario Strait, and the Strait of Georgia. These recommendations also include modifications and/or additions to a number of Vessel Traffic Service Special Areas.

When Did the Coast Guard Conduct the PARS?

We announced the PARS in a notice published in the Federal Register on January 20, 1999 (64 FR 3145). We will finish the PARS after receipt and review of the comments received in response to this notice.

What Data Did the Coast Guard Use To Help Conduct the PARS?

We reviewed various studies and data collected both in-house and by other organizations on vessel traffic patterns and density, and risks associated therewith. U.S. Coast Guard sources included the latest Waterways Analysis and Management System (WAMS) reports for the Strait of Juan de Fuca, Haro Strait and Boundary Pass, Rosario Strait, Strait of Georgia, and Admiralty Inlet. Another data source was the study titled “Scoping Risk Assessment: Protection Against Oil Spills in the Marine Waters of Northwest Washington State,” commonly referred to as the “Puget Sound Additional Hazards Study” or the “Volpe Study.” U.S. and Canadian VTSs provided vessel traffic data throughout the study area. The Olympic Coast Marine Sanctuary Manager utilized portions of this traffic data to conduct further track analysis in the vicinity of the Traffic Lane Separation Lighted Buoy “J” (Juliet Buoy) and Duntze Rock.

Eleven letters were received in response to the published notice of the study. Another five comments were recorded from oral presentations made at the public meeting we conducted on May 12, 1999 (64 FR 18651, April 15, 1999).

The U.S. Coast Guard met with Canadian Coast Guard and Transport Canada representatives to discuss and define issues. Input was solicited from the maritime industry and other potentially affected parties.

Why Is the Coast Guard Publishing These Preliminary Recommendations?

Because of the lack of a substantive number of comments to the original notice and our strong desire to engage the public in the study process, we decided to ask for comments on the issues and recommendations presented in this notice. Our recommendations are purposely not exhaustive in their characterization of all the concerns and issues we considered. Rather, they provide readers with the essence of proposed modifications and their primary rationale so that readers may help us refine these recommendations and proposals through constructive comments.

What Is the Existing Traffic Management Safety Regime?

For this study, we divided the geographic area into six discrete waterway segments. Each segment and its existing traffic management system is briefly described as follows:

1. Entrance to Strait of Juan de Fuca. The TSS at the entrance consists of a forked configuration with approaches from the west and southwest. Each approach consists of inbound and outbound traffic lanes with a separation zone in its center. An ATBA offers protection to critical inshore habitats of the Olympic Coast National Marine Sanctuary that abuts the southern approach of the TSS on its east side. The Tofino Vessel Traffic Service (Tofino) manages traffic in this area.

2. Cape Flattery to Race Rock. The TSS in this area consists of a one-way westbound and a one-way eastbound traffic lane with a separation zone between them. The lanes are of a uniform one-mile width. At its western end, these lanes link with the forked approaches to the TSS. The TSS is slightly offset to the south of the U.S./Canadian border. This portion of the TSS has a 22°-left dogleg in the inbound lane at 124°W. The separation zone north of Twin Rivers flares to about three miles in width, then tapers in either direction to about 1 mile in width. Tofino manages traffic in the Strait west of 124°40′W and the Puget Sound Vessel Traffic Service (PSVTS) manages traffic east of 124°40′W.

3. Port Angeles Precautionary Area—Race Rocks to New Dungeness and North to Discovery Island. This area includes a 2-mile diameter precautionary area with the Cape Flattery to Race Rocks TSS connecting from the west, a short TSS from Port Angeles connecting from the south, and a longer TSS from Victoria, BC, connecting from the north. All connecting TSSs have inbound and outbound traffic lanes with separation zones between them. The western TSS provides the lanes leading inbound from and outbound to sea through the Strait of Juan de Fuca. The southern TSS directs traffic to and from the pilot station off Port Angeles. The PSVTS manages traffic in this area. The northern TSS directs traffic to and from the Canadian pilot station off Victoria, BC. Another TSS, leading northeast from the Victoria pilots station, provides a link to Haro Strait. The Victoria Vessel Traffic Center (VVTC) manages vessel traffic north and east of Race Rocks. The area east of New Dungeness Spit and north to the San Juan Islands contains intersecting TSSs with associated precautionary areas which provide for the orderly flow of traffic between the Strait of Juan de Fuca, Admiralty Inlet, Rosario Strait, and Haro Strait. The PSVTS manages traffic in this area.

4. Haro Strait and Boundary Pass. There are no formalized traffic lanes for these waters, but the CVTS oversees vessel movements by utilizing full radar and VHF coverage in these joint U.S./Canadian waters. In addition, the “Turn Point Tanker Safety Area” places operating restrictions on tankers of 40,000 DWT or greater when rounding this partially blind turn. VVTC manages traffic in this area.

5. Rosario Strait and Guemes Channel. Rosario Strait has a single two-way traffic lane with no separation zone. There are circular precautionary areas at the northern and southern entrances to the Strait. The northern precautionary area leads to a TSS which routes traffic to and from the Strait of Georgia. The southern precautionary area is linked to two traffic lanes. One routes traffic to and from the west, and the other routes traffic to and from the south through Admiralty Inlet. There are no designated traffic lanes in Guemes Channel. The PSVTS manages traffic in Rosario Strait and Guemes Channel. Traffic is subject to the VTS Special Area regulations listed under 33 CFR 161.13 and 161.55. These regulations place operating restrictions on certain classes of vessels when meeting, crossing or overtaking other large vessels in these constricted waters.

6. Strait of Georgia. The VVTC manages the TSS in the Strait of Georgia. The TSS consists of northbound and southbound traffic lanes with a separation zone between them. A break in the TSS between Active Pass and Roberts Bank provides for crossing traffic and traffic to and from Delta Port and the Tsawwassen Ferry Terminal. Another break in the TSS at the northern juncture of Boundary Pass provides for ingress and egress to Boundary Pass. To the south, between Sucia Island and Alden Bank, the TSS resumes and narrows, continuing to a circular precautionary area off Matia Island and then to its junction with the precautionary area at the north end of Rosario Strait. Northwest of its juncture with Boundary Pass, the northbound traffic lane and most of the separation zone lie in U.S. waters. The southbound lane lies in Canadian waters. Southeast of the juncture with Boundary Pass, the TSS is completely in U.S. waters.

Study Recommendations

From the information examined, we identified general and geographic-specific issues where waterway safety improvements could be realized. Each issue is discussed and recommendations presented. Comments are particularly solicited with respect to these recommendations.

A. General Issues Relevant to the Entire Study Area

Issue #1: Should compliance with the TSS be mandatory in U.S. waters?

Discussion: Participation with the VTS is compulsory for certain classes of vessels; however the actual use of the TSS is not specifically mandated under U.S. regulations. The VTS has the ability, on a case-by-case basis, to require a specific vessel to use the TSS. This is accomplished as a “VTS Direction” under 33 CFR 161.11.

Over time, the CVTS has found it desirable to require only larger, deep draft vessels that can maintain a speed of 12 knots or more to use the TSS. Experience has shown that almost all of these vessels voluntarily choose to follow the TSS. On the rare occasion that a larger, deep draft vessel attempted not to follow the TSS, the CVTS has succeeded in encouraging or directing the vessel to do so.

The Canadians, through a modification to Rule 10 of the COLREGS, require all vessels 20 meters or over to follow the TSS when it is safe to do so. However, they do not aggressively enforce this provision, considering it not desirable to require smaller and/or slower moving vessels to follow the lanes. Mixing vessels of large disparate speeds significantly increases the frequency of vessel interactions.

Recommendation: Do not make the TSS mandatory, as we do not consider regulatory imposition necessary to gain compliance. The current system of voluntary usage, combined with persuasion and existing regulatory tools, ensures that those vessels that should be in the traffic lanes actually are.

Issue #2: Should all traffic lanes, precautionary areas, and VTS special areas within the Puget Sound Area of Responsibility (AOR) be specified as waters where all or certain provisions of Rule 9 of the International Navigation Rules would apply?

Discussion: Conflicts periodically develop between large vessels following a TSS, narrow channel or fairway, and smaller recreational and fishing vessels. Oftentimes, when a deep draft vessel is forced to maneuver even slightly to avoid a smaller vessel in a narrow channel or fairway, the deep draft vessel must then follow a route that is sub-optimal from a navigation safety perspective. Also, when a deep draft vessel following a fairway or TSS is forced to radically maneuver to avoid a smaller vessel, order and predictability are lost in that other surrounding vessels no longer know what to expect from the larger vessel.

Rule 10 of the COLREGS prohibits vessels engaged in fishing, sailing vessels, and vessels of less than 20 meters from impeding the safe passage of a power-driven vessel that is following a traffic lane. However, Rule 10 does not apply to the numerous precautionary areas that link the lanes together nor to fairways that do not have established traffic lanes. Rule 9 prohibits vessels of less than 20 meters, sailing vessels, and vessels engaged in fishing, from impeding the passage of a vessel that can safely navigate only within a narrow channel or fairway. The “do not impede” provisions of Rules 9 and 10 enhance the order, predictability, and safety of vessel movements. Deep draft vessels would be provided with optimum routing through the TSS.

Recommendation: Delineate and specify those waters within the VTS Puget Sound Area of Responsibility (AOR) in which all or certain provisions of Rule 9 of the International Navigation Rules would apply.

Issue #3: Should there be one common international frequency for bridge-to-bridge radio communications in the CVTS?

Discussion: Under U.S. regulations, all vessels 20 meters or over are required to guard VHF channel 13 when in U.S. waters. Channel 13 is the designated bridge-to-bridge radio frequency and is used to make passing arrangements and to clarify vessel intentions. There is no comparably designated bridge-to-bridge frequency in Canadian waters. The two governments must work together to establish one common bridge-to-bridge frequency, preferably channel 13, for all vessels operating within the CVTS, thus assuring timely and reliable communications between ships.

Recommendation: The U.S. and Canadian governments, through the Joint Coordinating Group of the CVTS, should develop internal policies that require the use of channel 13 for bridge-to-bridge communications within the CVTS area.

B. Geographic-Specific Issues

The following issues are best reviewed and comprehended when read in conjunction with the charts of the proposed changes that are posted on the Thirteenth Coast Guard District Web Site at http://www.uscg.mil/d13/pars/sjdf.html.

Entrance to Strait of Juan de Fuca

Issues #4a through 4f: Should we—

a. Extend the TSS at the entrance to the Strait of Juan de Fuca approximately 10 miles further offshore;

b. Center the separation zone at the entrance to the Strait of Juan de Fuca on the International Boundary;

c. Retain multiple approach lanes configured to maintain order and predictability for vessels entering or exiting the Strait;

d. Configure these lanes to the greatest extent possible to avoid customary fishing grounds;

e. Acknowledge the existence of an informal northwesterly traffic route by creating a new exit lane just north of the Juliet Buoy for vessels headed coastwise to Alaska; and

f. Expand the ATBA boundaries to the north and west to provide a greater buffer around Duntze Rock and offshore while still providing a protected route for slower moving vessels?

Discussion: All traffic entering the Strait of Juan de Fuca is funneled into the Strait through one of two short traffic lanes. The inbound traffic lane originating from the southwest may bring traffic within 1 mile of Duntze Rock. This convergence near the Juliet Buoy is in close proximity to the rocky shoreline of Cape Flattery, lies within the Olympic Coast National Marine Sanctuary, and funnels inbound southern traffic along the northern/western border of the ATBA.

It is customary practice for a large percentage of the slower moving traffic, often tugs and barges and small fishing vessels, to transit inbound and outbound south of the designated traffic lanes when on coastwise voyages to and from the south. This practice eliminates the need for slower moving southbound traffic to cross the traffic lanes, and numerous overtaking situations arising from disparate transit speeds. However, under the present configuration, this traffic is forced to transit extremely close to Duntze Rock, and may end up infringing on either the ATBA or the inbound traffic lane. A similar practice of transiting outside the lanes is observed and condoned for small/slower vessels transiting north of the lanes in Canadian waters.

Traditional commercial and sports fishing areas are in and adjacent to the traffic lanes at the entrance to the Strait. Occasionally, fishing vessels in the area create a conflict for vessels following the TSS, particularly during periods of reduced visibility.

Both the move of the convergence zone 10 miles to the west and the shift of the entrance point to the north would help create a “buffer zone” between the southernmost TSS lane and Duntze Rock and the nearby ATBA. This relocation provides significant sea room for conflict resolution as vessels converge toward the entrance of the Strait, thereby improving order and predictability for each entry and exit lane. Moving the northern border of the ATBA to a consistent 7000 yards south of the International Boundary and 4000 yards south of the southernmost edge of the TSS would provide an improved safety buffer for those smaller, slower moving vessels that choose to transit south of the TSS. Continuing this buffer area parallel to the TSS until a point at 124°55′ would allow sufficient room for slower moving vessels to transit without conflicting with inbound traffic steering for the southern approach to the TSS. It would also provide a greater margin of safety around the hazards of Duntze Rock and Tatoosh Island.

In the development of these proposed changes to the TSS, we considered the location of the traditional fishing grounds off the entrance to the Strait of Juan de Fuca. Although it was not possible to completely segregate the TSS from the fishing grounds, the recommended changes minimize potential conflicts and improve the existing configuration.

Our recommendations provide routing order and predictability further offshore thereby reducing conflicts between vessels following the TSS and vessels fishing at the entrance to the Strait.

Recommendation: That we implement all actions presented as Issues #4a through 4f.

Issue #5: Should the CVTS agreement be expanded to formally recognize an offshore VTS zone?

Discussion: The United States and Canada administer their respective National Vessel Traffic Management Regulations to the limit of their territorial seas (12 nautical miles). Based on current laws, neither country has the authority to impose a mandatory VTS regime beyond its territorial sea. Although VTS jurisdiction does not extend beyond 12 nautical miles, vessels are asked to voluntarily check in with Tofino Traffic Center once north of latitude 48° N or east of longitude 127° W, or within 50 miles of Vancouver Island. This is known as the CVTS “Service Area” and represents the existing radar coverage of Tofino Traffic Center. Once checked in, vessels are provided with traffic advisories and are actively managed. Check-in points are depicted on the navigational charts, and voluntary compliance is in excess of 99%.

Recommendation: Do not formally create a VTS offshore zone. The CVTS will continue to provide traffic management services on a voluntary basis.

Issue #6: Should there be mandatory compliance with the ATBA associated with the Olympic Coast National Marine Sanctuary?

Discussion: The ATBA requests voluntary exclusion of tank vessels or barges carrying oil in bulk or hazardous materials. Vessel track lines have been recorded for potential violations of this voluntary program. For those vessels found within the ATBA and in violation, there has been a high degree of compliance after receiving letters jointly signed by the Manager of the Marine Sanctuary and the local USCG Captain of the Port.

At this time the State/BC Oil Spill Task Force is conducting an Offshore Routing Study. This study will likely recommend coastwise routes that segregate various shipping classes into offshore “lanes” depending on their potential risk to the environment. It will build upon the recommendations of the Monterey Bay National Marine Sanctuary (MBNMS) Vessel Management Study and provide consistency along the entire West Coast. The recommended realignment of the TSS at the entrance to the Strait of Juan de Fuca and the minor expansion of the ATBA should be consistent with any recommendations of the Offshore Routing Study.

Recommendation: Do not make compliance with the ATBA mandatory. Good voluntary compliance currently exists. The realignment of the TSS at the entrance to the Strait of Juan de Fuca and the minor expansion of the ATBA discussed previously will make it easier for vessels to voluntarily comply. We should continue to market and promote voluntary compliance and closely coordinate the final recommendations of this Port Access Route Study with the Offshore Routing Study.

Cape Flattery to Race Rocks

Issues #7a through 7c: Should we—

a. Center the TSS exactly on the International Boundary, and standardize the widths of the separation zone and traffic lanes to a consistent 2000 yards;

b. Soften the inbound dogleg off Twin Rivers from 22 degrees to 8 degrees to make it consistent with the International Boundary; and

c. Establish IMO “Recommended Routes” north and south of the TSS to formally recognize and accommodate the existing traffic patterns?

Discussion: Commercial fishing activity and patterns in the Strait of Juan de Fuca have changed significantly since the TSS was first designed and implemented. Neither PSVTS nor commercial fishing representatives report significant fishing activity in the separation zone. Therefore, the recommended changes to the TSS should not have an unreasonably adverse impact on the fishing industry.

In its current configuration, two thirds of the TSS is located on the United States side of the International Boundary. The separation zone flares to a maximum width of approximately three miles. This TSS alignment reduces the amount of navigable water available to those vessels choosing to transit outbound or inbound south of the TSS, and places inbound traffic following the lanes in closer proximity to land than vessels transiting in the outbound lanes.

Centering of the TSS on the International Boundary and reducing the width of the separation zone will reduce the potential for powered groundings on the U.S. shoreline by creating a larger buffer between the TSS and shore. It also creates additional space for the existing in-shore traffic that transits south of the TSS.

The Canadian Practice Firing Range (Exercise area WH) is located midway in the Strait, and extends south from the shoreline to the International Boundary. This centering change will have minimal impact on the Canadian “WH” firing range, as reported by the Canadian Defense Force.

The inbound 22° dogleg in the TSS off Twin Rivers has been identified as an occasional contributor to confusion during overtaking evolutions. On extremely rare occasions, the VTS has had to remind vessels to execute the turn. Reducing the inbound dogleg in the TSS from 22° to 8° allows the TSS to be centered on the International Boundary. This in turn facilitates overtaking situations, and allows for improved traffic flow in the vicinity of Port Angeles. Centering the TSS on the International Boundary and reducing the dogleg also creates more sea room for a vessel to recover or for the VTS to contact them should they miss the turn on the inbound leg. A complete elimination of the dogleg turn was not feasible because it would have resulted in the TSS being too close to shoal water at certain locations in the Strait.

IMO recognition of two-way “recommended routes” north and south of the traffic lanes would formalize existing traffic patterns and provide additional order and predictability. Formally establishing recommended routes would also help to preserve the TSS for fast moving, deep draft traffic.

Analysis of current traffic patterns in the informal traffic zone south of the TSS revealed that meeting traffic routinely passes starboard to starboard. We will encourage vessels within the informal traffic zone to meet starboard to starboard, which we consider safer than the more traditional port to port meeting recommended by the COLREGS. Starboard to starboard meeting in the informal traffic zone is preferred because it results in the vessel closest to the TSS proceeding in the same direction as a deep draft vessel traveling eastbound in the inbound lane of the TSS. This traffic pattern minimizes the potential of a collision between deep draft vessels following the TSS and outbound vessels following the recommended route. We anticipate that vessels using the inshore recommended route would be habitual or repeat users while those choosing to use the TSS would be first time or less familiar users. For the recommended routes south of the TSS, we propose formalizing the current practice of vessels meeting starboard to starboard. To avoid unnecessary confusion and to maintain international consistency, we also propose prescribing starboard to starboard meetings for the recommended routes north of the TSS.

Recommendation: That we implement all actions presented as Issues #7a through 7c.

Port Angeles Precautionary Area—Race Rocks to New Dungeness and North to Discovery Island

Issues #8a through 8e: Should we—

a. Move the Port Angeles pilot station to a point approximately 1.25 miles north and 1.25 miles east of the tip of Ediz Hook;

b. Redefine the boundaries of the precautionary area as follows:

1. North of Port Angeles, define the western boundary of the precautionary area by linking the southern edge of the inbound traffic lane and the tip of Ediz Hook.

2. Define the eastern boundary of the precautionary area by linking the southern edge of the inbound traffic lane and the tip of Dungeness Spit.

3. Further define the eastern boundary of the precautionary area by linking the southern outbound traffic lane and the northern inbound traffic lane.

c. Establish a VTS special area within the inbound traffic lane between Angeles Point and the Port Angeles pilots station where a vessel will be prohibited from overtaking another vessel without VTS approval;

d. Establish precautionary areas for the turns at Discovery Island and the Victoria pilot station; and

e. Create an inshore buffer by decreasing the width of the TSS leading from the Victoria pilots station to the turn south of Discovery Island while maintaining the same southern boundary of the inbound lane? In addition, we would link the TSS off Discovery Island with the new TSS in Haro Strait.

Discussion: Five TSSs converge at the precautionary areas located to the north and east of Port Angeles. Ferries, recreational vessels, piloted deep draft vessels, non-piloted deep draft vessels, tugs and tows, naval vessels, and large and small commercial fishing vessels all interact and compete for space at this convergence point in the traffic scheme. The present traffic configuration was designed primarily to deliver inbound vessels to the pilot stations located at Port Angeles and Victoria. The impact on vessel safety or other waterway users may have been overshadowed. For example, the present configuration does not separate the Port Angeles pilots boarding area from either the through traffic following the TSS or the traffic choosing to follow the informal inshore traffic lanes.

The current TSS routing leading to the Port Angeles pilot station has been identified through casualty histories as a substantial cause for concern. Vessels bound for the Port Angeles pilots station are required by the TSS to steer almost directly on Ediz Hook. Vessels must first execute a 60-degree turn, then slow to varying speeds, which creates different impacts on steerage, to pick up a pilot. At this point a vessel may be particularly vulnerable to currents and seas. If an engineering failure occurred during this evolution, the vessel would be at risk of a drift or powered grounding on Ediz Hook. By moving the pilot station we can minimize the number of sharp turns vessels must make when entering and leaving the precautionary area off Port Angeles. The move also eliminates the requirement for a vessel to steer directly on Ediz Hook while maneuvering to pick up a pilot, and allows through traffic to avoid the pilot boarding area.

On the Canadian side, outbound tugs and barges exit the TSS at Discovery Island and head directly for the inshore routes south of Race Rocks cutting across the inbound and outbound TSS lanes south of Victoria. Outbound fishing vessels exiting Baynes Channel or passing east of Discovery Island attempt to stay north of the TSS but often infringe upon the lanes near Trial Island, Discovery Island, and the pilot station. Creating a buffer zone north of the Victoria TSS allows fishing vessels and other small, slow moving vessels to transit directly between Discovery Island and Race Rocks then inshore north of the TSS.

An issue unrelated to the TSS configuration, is the behavior of unpiloted vessels inbound from sea approaching the Port Angeles precautionary area. On occasion, an inbound vessel does not complete overtaking evolutions before entering the precautionary area. Results of an incomplete evolution include either imprudent speeds, or a vessel attempting to cross ahead of a vessel it has just passed. When this occurs, the VTS often must intervene and issue directions to the vessels. Establishing a VTS special area within the inbound traffic lane increases the predictability of vessel movements within the Port Angeles precautionary area by prohibiting overtaking maneuvers.

Recommendation: That we implement all actions presented as Issues #8a through 8e.

Haro Strait and Boundary Pass

Issues #9a through 9d: Should we—

a. In Haro Strait and Boundary Pass, establish a two-way traffic lane similar to the one presently existing in Rosario Strait;

b. Establish a 2-mile diameter precautionary area centered on Turn Point to manage the merging traffic from several secondary channels in the vicinity of Turn Point;

c. Designate the U.S. waters of this precautionary area as a VTS Special Area as defined in 33 CFR 161.13 where VTS users would not be allowed to meet, cross or overtake without the prior permission of the CVTS; and

d. Through the Joint Coordinating Group of the CVTS, modify the existing Turn Point Tanker Safety Area to adopt the same special area provisions in Canadian waters?

Discussion: Turn Point is one of the more navigationally challenging areas of Haro Strait and Boundary Pass. Transiting vessels must negotiate a blind right-angle turn at varying distances from shore depending on their direction of travel and the presence of strong currents. In addition, numerous secondary channels and passages route traffic into Haro Strait in the vicinity of Turn Point.

Neither designated traffic routes nor formal vessel routing measures are in effect except for the “Turn Point Tanker Safety Area.” This CVTS measure requires loaded tankers of 40,000 DWT or greater to make passing arrangements on channel 11 and to “take every precaution to maintain a safe CPA” when transiting in the vicinity of Turn Point.

By establishing a formal traffic lane, the provisions of Rule 10 of the COLREGS would apply. Rule 10 directs certain smaller vessels to not impede the passage of a vessel following a traffic lane. Establishment of a formal traffic lane and its inclusion on navigational charts will also increase order and predictability by reminding non-participants where to expect fast moving, deep draft vessels.

A generous precautionary area at Turn Point will provide vessels maximum flexibility to maneuver as they compensate for the strong currents present. The creation of a VTS Special Area centered on Turn Point will also promote safe marine practices by eliminating the meeting of vessels at a sub-optimal location in the traffic scheme. Further, establishing the same provisions in Canadian waters will ensure international uniformity.

Recommendation: That we implement all actions presented as Issues #9a through 9d.

Rosario Strait

Issues #10a and 10b: Should we—

a. Extend the precautionary area “RB” southward into the existing traffic lanes which would eliminate that portion of the separation zone that the large vessels are unable to avoid; and

b. Expand the applicability of the existing Rosario/Guemes Channel VTS Special Area regulations contained in 33 CFR 161.55 to include all adjacent waters through which loaded or light tankers have historically transited? These waters would include Bellingham Channel and the navigable channels northeast of Guemes and Sinclair Islands, which connect the refineries at Anacortes and Cherry Point.

Discussion: Deep draft vessels often cannot precisely follow the TSS when approaching Rosario Strait from the south. Strong currents make it impossible for vessels to avoid the separation zone as they negotiate the slight turns in the TSS just south of precautionary area “RB”. We could not eliminate the small turns in the TSS approaching precautionary area “RB” without placing the TSS uncomfortably close to other shoal water. We believe the safety of deep draft transits will be enhanced by eliminating a routing measure with which large ships cannot comply and replacing it with a precautionary area “where ships must navigate with particular caution.”

The PSVTS Special Area regulations contained in 33 CFR 161.55 are only applicable to certain categories of vessels operating in Rosario Strait and Guemes Channel, and they modify the generic VTS Special Area regulations contained in 33 CFR 161.13. These Special Area regulations were promulgated in recognition of the size and potential risks associated with tankers transiting Rosario and Guemes Channels en route to the refineries located at Anacortes and March Point. However, loaded and light tankers will also occasionally transit Bellingham Channel and the waters northeast of Guemes/Sinclair Island as an alternate route to the refineries or to reach the anchorage at Vendovi Island.

Currently, the VTS Special Area regulations do not apply to these secondary navigational channels which are arguably equally or more navigationally challenging than Guemes and Rosario Channels. These recommendations would further enhance safety by expanding the Rosario/Guemes Special Area regulations to adjacent waters that have equal or greater risk and are frequented by both loaded and light tankers.

Recommendation: That we implement all actions presented as Issues #10a and 10b.

Strait of Georgia

Issues #11a and 11b: Should we—

a. Modify slightly the existing TSS and establish a set of traffic lanes to align and connect the two TSSs; and

b. Establish precautionary areas east of East Point at the junction of the new Boundary Pass traffic lane and Strait of Georgia TSS, and west of Delta Port and the Tsawwassen Ferry Terminal?

Discussion: There has been an increase in traffic from Delta Port and the Tsawwassen Ferry Terminal which poses a risk of collision as departing vessels enter the TSS and build to sea speed. In addition, there is no routing measure connecting the TSS that terminates off Patos Island with the TSS that terminates off Saturna Island. Further, these two TSSs are not aligned. Traffic exiting the Strait of Georgia bound for Rosario Strait follows the TSS to its termination before angling back to the north to enter the TSS at Patos Island. This vessel routing crowds and creates a possible conflict with traffic southbound for Boundary Pass. Finally, there is no precautionary area in the vicinity of East Point, where traffic merges from several directions. By providing a contiguous TSS that connects the new Boundary Pass traffic lane with the existing or modified TSS in the Strait of Georgia, and establishing a contiguous TSS connecting the old Patos Island TSS and the Georgia Strait TSS, traffic bound for Rosario Strait could follow the TSS without impeding traffic southbound for Boundary Pass.

A new precautionary area southwest of Delta Port will accommodate vessels departing Delta Port and the Tsawwassen Ferry Terminal as they get up to maneuvering speed before and while entering the TSS.

A new precautionary area around East Point will provide logical connection to three converging traffic lanes. It will also highlight the need for potential crossing traffic in this area to exercise caution and will provide tankers departing Cherry Point bound for Haro Strait with a predictable and safe location to enter the traffic scheme.

Recommendation: That we implement all actions presented as Issues #11a and 11b.

Future Actions

We appreciate the comments we received concerning the PARS. Upon receiving your comments concerning this notice of preliminary study results, we will analyze them, and publish a notice of study results in the Federal Register. Any recommended changes to the Code of Federal Regulations will require a notice of proposed rulemaking (NPRM) published in the Federal Register. In addition, any changes to the vessel routing system, i.e., TSS, ATBA, and precautionary areas, will require submission to and approval of the International Maritime Organization.

Dated: February 16, 2000.
Joseph J. Angelo,
Acting Assistant Commandant for Marine Safety and Environmental Protection.

[FR Doc. 00-4196 Filed 2-22-00; 8:45 am]

BILLING CODE 4910-15-U